ENVIRONMENTAL PROTECTION AGENCY

40 CFR Part 300

[FRL-7110-1]

National Priorities List for Uncontrolled Hazardous Waste Sites; Notice of Amendment to Proposed Listing of the Smeltertown-Operable Unit 3 (CoZinCo) Superfund Site, Salida, Chaffee County, CO

AGENCY: Environmental Protection Agency (EPA).

ACTION: Notice of amendment to proposed listing.

SUMMARY: In accordance with the requirements of section 122(h)(1) of the Comprehensive Environmental Response, Compensation, and Liability Act, as amended (“CERCLA”), 42 U.S.C. 9622(h)(1), notice is hereby given that the proposal to list the Smeltertown-Operable Unit 3 site on the National Priorities List (NPL) is amended to exclude the CoZinCo facility from the scope of listing under section 122(h) of CERCLA, 42 U.S.C. 9622(h). The Smeltertown-Operable Unit 3 Site is located in Salida, Chaffee County, Colorado (the Site). This amendment was initially proposed on May 11, 2000 (65 FR 30489). CoZinCo, Inc., submitted comments on July 10, 2000, supporting the amendment, but disputing the rationale for such action. On August 14, 2000, CoZinCo, Inc., amended its comments, withdrawing its request for a written response from EPA regarding the Agency's rationale for the amendment for the proposed NPL listing. On August 25, 2000, CoZinCo, Inc. withdrew its comments in their entirety. No other comments were received by EPA.

FOR FURTHER INFORMATION CONTACT: Andrea Madigan, Legal Enforcement Attorney (ENF-L) Legal Enforcement Program, U.S. Environmental Protection Agency, 999 18th Street, Suite 300, Denver, Colorado 80202-2466, (303) 312-6904.

Dated: November 15, 2001.
Diane L. Sipe,
Acting Assistant Regional Administrator, Office of Enforcement, Compliance and Environmental Justice, Region VIII.

[FR Doc. 01-29657 Filed 11-29-01; 8:45 am]

BILLING CODE 6560-50-P